NATIONAL SCIENCE FOUNDATION

Agency Information Collection Activities: Comment Request; National Science Foundation's Evaluation of the Robert Noyce Teacher Scholarship Program

AGENCY: National Science Foundation (NSF).

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently Under 30-Day Review—Open for Public Comments” or by using the search function.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: The Evaluation of the National Science Foundation's (NSF) Robert Noyce Teacher Scholarship Program.

OMB Number: 3145-NEW.

Abstract: The National Science Foundation (NSF) has been committed to broadening participation of underrepresented groups and diverse institutions in science, technology, engineering, and math (STEM) through an array of means. One way that NSF supports this is through its Robert Noyce Teacher Scholarship Program (Noyce Program; https://www.nsfnoyce.org/), which was authorized in 2002 under the National Science Foundation Authorization Act of 2002 (Pub. L. 107-368) and reauthorized in 2007 under the American COMPETES Act (Pub. L. 110-69; https://www.govinfo.gov/content/pkg/PLAW-110publ69/pdf/PLAW-110publ69.pdf). The program provides funding to higher education institutions via (a) scholarships, (b) stipends, and (c) other means of programmatic support to recruit and prepare science, technology, engineering, and mathematics (STEM) majors and other professionals to become K-12 STEM teachers.

The overall goal of the Noyce Program is to “increase the number of K-12 teachers with strong STEM content knowledge who teach in high-need school districts” (The Robert Noyce Teacher Scholarship Program [nsfnoyce.org]). Specifically, the Noyce Program's goals include aiding in establishing and facilitating the awarding of scholarships, fellowships, funding, and programming that help to recruit, train, and retain K-12 STEM teachers for high-need school districts. Additional Noyce Program goals include supporting research on K-12 STEM teachers in high-need school districts to understand patterns of teacher retention and effectiveness in these settings. Program objectives for the Noyce Teacher Scholarship Program include increasing the (a) number and (b) diversity of students from groups underrepresented in STEM fields who pursue careers in K-12 STEM teaching, especially in high-need school districts.

The NSF STEM Education (EDU) Directorate requests the Office of Management and Budget (OMB) approval of this clearance to initiate new data collections to be conducted as part of an external evaluation of the Robert Noyce Teacher Scholarship Program. These collections, to be conducted by the evaluation contractor, include:

Demographic Questionnaire. A one-time, web-based survey of selected individuals who have been involved in various aspects of NSF's Robert Noyce Teacher Scholarship Program from FY2014 to FY2024 (i.e., PIs, program coordinators, faculty, current and former scholars/fellows, K-12 school leaders, external evaluators) as well as representative individuals who are eligible for Noyce funding but have not received it. The purpose of this questionnaire is to (a) ensure that the participants recruited are diverse, and (b) support the qualitative data analytic approaches. Information about the respondents that will be captured within the questionnaire will include demographic data (e.g., race/ethnicity, gender identity), length of time with the institution, and experience with the Noyce Program (as applicable). The survey data will enable NSF to supplement the information gleaned from the interviews and focus groups, encouraging further understanding of what is working well and growth opportunities for the Noyce Program.

Interviews with Principal Investigators. Interviews with a purposive sample of up to 50 PIs or Co-PIs who had NSF's Robert Noyce Teacher Scholarship Program funded between FY2014 and FY2024. The interviews will be conducted either in-person during the annual Noyce Summit (2025), in-person during regional Noyce conferences (Fall 2024-Summer 2025), or using a virtual meeting platform at a time convenient for the respondents. The interviews will elicit information about how the Noyce Program can support the STEM teacher preparation field, the impact of the award, barriers and facilitators to applying for Noyce funding, and how changes to the solicitation over the past 10 years have impacted the perception of the Noyce award, as well as perceptions of the merit review process. This information will be triangulated with the other data collected as well as with information from the review of documents to provide a holistic understanding of the context of the Noyce Program, what is working well, and growth opportunities.

Interviews with Eligible Individuals Who Have Not Received NSF's Robert Noyce Teacher Scholarship Program Funding. Interviews with a purposive sample of up to 20 representatives who are eligible for Noyce funding but have not received it. This sample includes individuals who have never applied for Noyce funding and those who have applied for but not received Noyce funding. The interviews will be conducted either in-person during the annual Noyce Summit (2025), in-person during regional Noyce conferences (Fall 2024-Summer 2025), or using a virtual meeting platform at a time convenient for the respondents. These interviews will elicit information about how the Noyce Program can support the STEM teacher preparation field, the impact of the award, barriers and facilitators to applying for Noyce funding, and how changes to the solicitation over the past 10 years have impacted the perception of the Noyce award (as applicable to the representatives' roles).

Focus groups. A series of up to 115 focus groups are also planned, including program coordinators/program staff, faculty, current scholars/fellows, former scholars/fellows, high-need K-12 school and district leaders, external evaluators, American Association for the Advancement of Science (AAAS) staff, and current and former NSF staff. This may include a total of up to 469 respondents. The focus groups will be conducted either in-person during the annual Noyce Summit (in 2025), in-person during regional Noyce events (Fall 2024-Summer 2025), or using a virtual meeting platform at a time convenient for the respondents, and will elicit information about how the Noyce Program can support the STEM teacher preparation field, the impact of the award, barriers and facilitators to applying for Noyce funding, and how changes to the solicitation over the past 10 years has impacted the perception of the Noyce award, as well as perceptions of the merit review process as applicable to the representatives' roles.

This data collection is necessary to provide NSF with actionable information about the overall context of the Robert Noyce Teacher Scholarship Program, as well as to (a) understand overall perceptions of the Program from both Noyce and non-Noyce recipients, and (b) identify what is working well and opportunities for growth. This information will help support the overall goal of increasing the number and diversity of qualified teachers within the STEM education field. Further, the need is grounded in the importance and value of producing a diverse pool of STEM professionals who choose to pursue a career as a K-12 STEM teacher in a high-need school/school district.

Use of the Information: Aggregate results from the demographic questionnaire, interviews, and focus groups will be synthesized and summarized in reports developed by the evaluation contractor that will be provided to NSF. Although questionnaire, interview, and focus group responses will be identifiable to the contractor, the reports provided to NSF will only include overall findings. No individual-level responses will be attributable to an individual respondent. Additionally, no information about individuals participating in the data collection activities will be released to anyone outside the contractor's organization. The data collected and reported on will be used for planning, management, and evaluation purposes only. These data are needed for effective administration, program monitoring, evaluation, and for strategic reviews and measuring attainment of NSF's program and strategic goals, as identified by the President's Accountable Government Initiative, the Government Performance and Results Act Modernization Act of 2010, Evidence-Based Policymaking Act of 2018, and NSF's Strategic Plan.

Expected Respondents: The respondents are Principal Investigators (PIs), representatives who are eligible for NSF's Robert Noyce Teacher Scholarship Program funding but have not received it (Potential PIs), program coordinators/program staff, faculty, current and former scholars/fellows, high-need K-12 school and district leaders, external evaluators, American Association for the Advancement of Science (AAAS) staff, and current and former NSF staff.

The demographic questionnaire respondents will include up to 78 PIs with Noyce awards between FY2014 to FY2024, up to 56 representatives who are eligible for NSF's Robert Noyce Teacher Scholarship Program funding but have not received it, up to 94 program coordinators/program staff, up to 188 faculty, up to 125 current scholars/fellows, up to 100 former scholars/fellows, up to 125 high-need K-12 school and district leaders, and up to 63 external evaluators (approximately 827 total respondents).

The interviews will include up to 50 PIs with NSF's Robert Noyce Teacher Scholarship Program awards between FY2014 to FY2024 and up to 20 representatives who are eligible for funding but have not received it (Potential PIs), all of whom will also have completed the questionnaire (approximately 70 total). The focus groups will include up to 60 program coordinators/program staff, up to 120 faculty, up to 80 current scholars/fellows, up to 64 former scholars/fellows, up to 80 high-need K-12 school and district leaders, and up to 40 external evaluators, all of whom will have also completed the questionnaire. Additionally, up to 3 AAAS staff, up to 6 current NSF staff, and up to 16 former NSF staff are expected to participate in focus groups (approximately 469 total respondents).

Estimate of Burden

Estimates of Annualized Cost to Respondents for the Hour Burdens

The overall annualized cost to the respondents is estimated to be $50,455.69. The hourly wage estimates for completing the interviews mentioned in the burden hours table are based on information from the Bureau of Labor Statistics website (http://www.bls.gov) and average GS-15-Step 5 for the current POs (https://www.opm.gov/policy-data-oversight/pay-leave/salaries-wages/salary-tables/24Tables/html/GS_h.aspx). Specifically, the “May 2023 National Occupational Employment and Wage Estimates” were used. For Principal Investigators, faculty, external evaluators, and former NSF staff, 25-1000 “Postsecondary Teachers” was used; for this, the average hourly rate was calculated for a 9-month contract because an hourly rate was unavailable. For program coordinators, 25-9031 “Instructional Coordinators” was used; for representatives who are eligible for NSF's Robert Noyce Teacher Scholarship Program funding but have not received it, 11-9033 “Education Administrators, Postsecondary” was used; for Current and Former Scholars/Fellows, 25-2000 “Preschool, Elementary, Middle, Secondary, and Special Education Teachers” was used (for this, the average hourly rate was calculated for a 9-month contract because an hourly rate was unavailable); for K-12 School Leaders, 11-9032 “Education Administrators, Kindergarten through Secondary” was used (for this, the average hourly rate was calculated for a 9-month contract because an hourly rate was unavailable); and for AAAS staff, 19-0000 “Life, Physical and Social Science Occupations” was used.

Respondent type | Collection title | Total number of respondents in category | Burden hours per respondent | Total hours burden | Average hourly rate estimate | Estimated annual cost
Pretest:
PIs | Pretest Demographic Questionnaire | 1 | 0.33 | 0.33 | 70.66 | 23.32
Potential PIs |  | 1 | 0.33 | 0.33 | 58.66 | 19.36
External Evaluators |  | 1 | 0.33 | 0.33 | 70.66 | 23.32
PIs | Pretest Principal Investigator Interview Protocol | 5 | 1 | 5 | 70.66 | 353.30
Potential PIs | Pretest Potential Principal Investigator Interview Protocol | 3 | 1 | 3 | 58.66 | 175.98
Current Scholars/Fellows | Pretest Scholars and Fellows Focus Group Protocol | 4 | 1 | 4 | 47.84 | 191.36
Program Coordinators | Pretest Program Coordinator Focus Group Protocol | 1 | 1 | 1 | 37.12 | 37.12
External Evaluators | Pretest External Evaluators Focus Group Protocol | 1 | 1 | 1 | 70.66 | 70.66
Demographic Questionnaire:
PIs | Demographic Questionnaire | 78 | 0.33 | 25.74 | 70.66 | 1,818.79
Potential PIs |  | 56 | 0.33 | 18.48 | 58.66 | 1,084.01
Program Coordinators |  | 94 | 0.33 | 31.02 | 37.12 | 1,151.46
Faculty |  | 188 | 0.33 | 62.04 | 70.66 | 4,383.75
External Evaluators |  | 63 | 0.33 | 20.79 | 70.66 | 1,469.02
Current Scholars/Fellows |  | 125 | 0.33 | 41.25 | 47.84 | 1,973.40
Former Scholars/Fellows |  | 100 | 0.33 | 33 | 47.84 | 1,578.72
High Need K-12 School Leaders |  | 125 | 0.33 | 41.25 | 77.10 | 3,180.38
Interviews:
PIs | Principal Investigator Interview Protocol | 50 | 1 | 50 | 70.66 | 3,532.99
Potential PIs | Potential Principal Investigator Interview Protocol | 20 | 1 | 20 | 58.66 | 1,173.20
Focus Groups:
Program Coordinators | Program Coordinator Focus Group Protocol | 60 | 1 | 60 | 37.12 | 2,227.20
Faculty | Faculty Focus Group Protocol | 120 | 1 | 120 | 70.66 | 8,479.17
External Evaluators | External Evaluators Focus Group Protocol | 40 | 1 | 40 | 70.66 | 2,826.39
Current Scholars/Fellows | Current Scholars/Fellows Focus Group Protocol | 80 | 1 | 80 | 47.84 | 3,827.22
Former Scholars/Fellows | Former Scholars/Fellows Focus Group Protocol | 64 | 1 | 64 | 47.84 | 3,061.78
High Need K-12 School Leaders | High Need K-12 School/District Leaders Focus Group Protocol | 80 | 1 | 80 | 77.10 | 6,167.78
AAAS Staff | AAAS Staff Focus Group Protocol | 3 | 1 | 3 | 42.24 | 126.72
Current NSF Staff | Current and Former NSF Staff Focus Group Protocol | 6 | 1 | 6 | 66.82 | 400.92
Former NSF Staff | Current and Former NSF Staff Focus Group Protocol | 16 | 1 | 16 | 70.66 | 1,130.56
Total |  | 556 |  | 827.04 |  | 50,455.69

Estimated Number of Responses per Report

It is estimated that there will be up to 1,366 responses (which does not include the 17 pretest responses). Up to 827 of these responses will be from the demographic questionnaire (excluding the 3 from the pretest), up to 70 from the interviews (excluding the 8 from the pretest), and up to 469 for the focus groups from those directly or indirectly affiliated with institutions eligible to receive Noyce funding (excluding the 6 from the pretest).

Dated: October 28, 2024.
Suzanne H. Plimpton,
Reports Clearance Officer, National Science Foundation.

[FR Doc. 2024-25439 Filed 10-31-24; 8:45 am]

BILLING CODE P